ENVIRONMENTAL PROTECTION AGENCY

[FRL-9943-98-OARM; DOCKET NO. FIFRA-HQ-2016-0001]

Flubendiamide; Notice of Intent To Cancel Pesticide Registrations

AGENCY: United States Environmental Protection Agency (EPA).

ACTION: Notice of objections filed and hearing requested; Notice of public hearing.

SUMMARY: Notice is hereby given, pursuant to Section 6 of the Federal Insecticide, Fungicide, and Rodenticide Act, 7 U.S.C. 136d, and Section 164.8 of the associated Rules of Practice Governing Hearings set forth at 40 CFR part 164, that objections were filed and a hearing was requested in response to the Notice of Intent to Cancel Pesticide Registrations, published in the Federal Register on March 04, 2016, 81 FR 11558.

This proceeding has been assigned Docket No. FIFRA-HQ-2016-0001, In the Matter of Bayer CropScience LP and Nichino America Inc., and the undersigned has been designated to preside. A hearing on the objections filed will be conducted in accordance with the Rules of Practice set forth at 40 CFR part 164.

DATES: The hearing in this matter will be held beginning promptly at 8:30 a.m. on Tuesday, May 10, 2016, and continue as necessary through Friday, May 13, 2016.

ADDRESSES: EPA Administrative Courtroom, EPA East Building, Room 1152, 1201 Constitution Avenue NW., Washington, DC 20460.

An electronic copy of the case file in this proceeding is publically available online at http://yosemite.epa.gov/oarm/alj/alj_web_docket.nsf. The official case file is available for public inspection between the hours of 8:30 a.m. and 4:30 p.m., Monday through Friday, in the office of the Hearing Clerk, located in Room M1200 of the Ronald Reagan Building, 1300 Pennsylvania Avenue NW., Washington, DC 20460.

Dated: April 4, 2016.
Susan L. Biro,
Chief Administrative Law Judge.

[FR Doc. 2016-08157 Filed 4-7-16; 8:45 am]

BILLING CODE 6560-50-P